DEPARTMENT OF THE INTERIOR

Bureau of Land Management

[MT-066-07-1610-DQ-024E]

Notice of Availability of Proposed Resource Management Plan and Final Environmental Impact Statement for the Upper Missouri River Breaks National Monument, Montana

AGENCY: Bureau of Land Management, Interior.

ACTION: Notice of availability.

SUMMARY: In accordance with the National Environmental Policy Act of 1969 (NEPA, 42 U.S.C. 4321 et seq.) and the Federal Land Policy and Management Act of 1976 (FLPMA, 43 U.S.C. 1701 et seq.), the Bureau of Land Management (BLM) has prepared a Proposed Resource Management Plan (PRMP) and Final Environmental Impact Statement (EIS) for the Upper Missouri River Breaks National Monument.

DATES: The BLM Planning Regulations (43 CFR 1610.5-2) state that any person who participated in the planning process, and has an interest which is or may be adversely affected, may protest the BLM's approval of an RMP. Protests must be filed within 30 days of the date that the Environmental Protection Agency publishes its Notice of Availability in the Federal Register. Instructions for filing protests are described in the Dear Reader letter of the Proposed RMP and Final EIS for the Upper Missouri River Breaks National Monument and in the SUPPLEMENTARY INFORMATION section of this notice.

FOR FURTHER INFORMATION CONTACT: Jerry Majerus, RMP Project Manager, Bureau of Land Management, 920 Northeast Main Street, P.O. Box 1160, Lewistown, MT 59457; or by telephone at (406) 538-1924.

SUPPLEMENTARY INFORMATION: The Upper Missouri River Breaks National Monument is located in northcentral Montana in Blaine, Chouteau, Fergus, and Phillips Counties. The planning area addressed in the Proposed RMP comprises about 375,000 acres of public land and 42,800 acres of existing oil and gas leases administered by the BLM Lewistown Field Office. The State of Montana and Blaine, Chouteau, Fergus, and Phillips Counties participated in development of the plan as cooperating agencies. The Proposed RMP and Final EIS were developed through collaborative planning and consider six alternatives. The Proposed RMP and Final EIS address the following six major questions: (1) How will human activities and uses be managed? (2) What facilities and infrastructure are appropriate to provide visitor interpretation and administration of the Monument? (3) How will the BLM manage resource uses and protect the biological, historical, cultural, and visual values of the Monument? (4) How will Monument management be integrated with other agency and community plans? (5) How will transportation and access be managed? (6) How will Monument management affect economic and social conditions in the area?

Copies of the Proposed RMP and Final EIS for the Upper Missouri River Breaks National Monument have been sent to affected Federal, State, and Local Government agencies and to interested parties. Copies of the Proposed RMP and Final EIS are available for public inspection at the BLM Lewistown Field Office, 920 Northeast Main Street, Lewistown, Montana or at the Missouri Breaks Interpretive Center, 701 Seventh Street, Fort Benton, Montana. Interested persons may also review the Proposed RMP and Final EIS on the Internet at: http://www.blm.gov/mt/st/en/fo/lewistown_field_office/um_rmp_process.html.

Comments on the Draft RMP/EIS received from the public and internal BLM review comments were incorporated into the Proposed RMP and Final EIS. Public comments resulted in the addition of clarifying text, but did not significantly change proposed land use decisions.

Instructions for filing a protest with the Director of the BLM regarding the Proposed RMP and Final EIS may be found at 43 CFR 1610.5-2. E-mail and faxed protests will not be accepted as valid protests unless the protesting party also provides the original letter by either regular or overnight mail postmarked by the close of the protest period. Under these conditions, the BLM will consider the e-mail or faxed protest as an advance copy and it will receive full consideration. If you wish to provide the BLM with such advance notification, please direct faxed protests to the attention of Brenda Hudgens-Williams, Protest Coordinator, at 202-452-5112, and e-mails to Brenda_Hudgens-Williams@blm.gov. All protests, including the follow-up letter (if e-mailing or faxing) must be in writing and mailed to the following address:

Regular Mail: Director (210), Attention: Brenda Williams, P.O. Box 66538, Washington, DC 20035.

Overnight Mail: Director (210), Attention: Brenda Williams, 1620 L Street, NW., Washington, DC 20036.

Before including your address, phone number, e-mail address, or other personal identifying information in your protest, you should be aware that your entire protest—including your personal identifying information—may be made publicly available at any time. While you can ask us in your protest to withhold your personal identifying information from public review, we cannot guarantee that we will be able to do so.

The Director will promptly render a decision on a protest. The decision will be in writing and will be sent to the protesting party by certified mail, return receipt requested. The decision of the Director is the final decision of the Department of the Interior.

Gene R. Terland,
State Director.

[FR Doc. E8-1790 Filed 1-31-08; 8:45 am]

BILLING CODE 4310-$$-P